NATIONAL AERONAUTICS AND SPACE ADMINISTRATION

[Notice (10-080)]

NASA Advisory Council; Technology and Innovation Committee; Meeting

AGENCY: National Aeronautics and Space Administration.

ACTION:

Notice of meeting.

SUMMARY: In accordance with the Federal Advisory Committee Act, Public Law 92-463, as amended, the National Aeronautics and Space Administration announces a meeting of the Technology and Innovation Committee of the NASA Advisory Council. It will include a joint session with the Exploration Committee of the NASA Advisory Council starting at 1 p.m. PDT. The meeting will be held for the purpose of reviewing the Space Technology Program planning.

DATES: Tuesday, August 3, 2010, 8:30 a.m. to 6:15 p.m. PDT.

ADDRESSES: NASA Jet Propulsion Laboratory—Von Karman Auditorium, 4800 Oak Grove Drive, Pasadena, CA 91011.

FOR FURTHER INFORMATION CONTACT: Mr. Mike Green, Office of the Chief Technologist, NASA Headquarters, Washington, DC 20546, (202) 358-4710, fax (202) 358-4078, or g.m.green@nasa.gov.

SUPPLEMENTARY INFORMATION: The meeting will be open to the public up to the capacity of the room. The agenda for the meeting includes the following topics:

• Office of the Chief Technologist Update

• Space Technology Programs Briefings

• Open Collaboration and Innovation Presentation

• Update on Human Exploration Framework Team (HEFT) (joint session)

• Exploration Systems Mission Directorate (ESMD) and the Office of the Chief Technologist Coordination Activities (joint session)

• Overview of ESMD New Technology Initiatives (joint session)

It is imperative that the meeting be held on these dates to accommodate the scheduling priorities of the key participants.

Dated: July 8, 2010.
P. Diane Rausch,
Advisory Committee Management Officer, National Aeronautics and Space Administration.

[FR Doc. 2010-17199 Filed 7-14-10; 8:45 am]

BILLING CODE 7510-13-P